NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 17, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

Fax: (301) 837-3698.

Requesters must cite the control number, which appears in parentheses after the name of the agency which submitted the schedule, and must provide a mailing address. Those who desire appraisal reports should so indicate in their request.

FOR FURTHER INFORMATION CONTACT: Margaret Hawkins, Director, National Records Management Program (ACNR), National Archives and Records Administration, 8601 Adelphi Road, College Park, MD 20740-6001. Telephone: (301) 837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-10-70, 1 item, 1 temporary item). Master files of electronic information systems used to manage supply and material life cycle operations.

2. Department of Commerce, National Telecommunications and Information Administration (N1-417-11-1, 2 items, 1 temporary item). Records relating to the Institute for Telecommunications Sciences, including routine administrative and working papers. Proposed for permanent retention are the legal program subject files of the Chief Counsel, including program and policy documents, legal filings, official opinions, and legal interpretations and activities.

3. Department of Defense, Defense Contract Audit Agency (N1-372-11-1, 8 temporary items). Documents related to hotline reports of financial malfeasance.

4. Department of Health and Human Services, Centers for Medicare & Medicaid Services (DAA-0440-2012-0001, 2 items, 1 temporary item). Records include policy and precedent files, including records that support the development of formal policy issuances, responses to inquiries, and comments on proposed legislation, regulations, and standards. Proposed as permanent are the official recordkeeping copies of formal policy memorandums, interpretations, clarifications, and similar records which serve as current policy and as precedent for future policy determinations.

5. Department of Homeland Security, U. S. Secret Service (N1-87-11-3, 4 items, 4 temporary items). Name check logs, delivery logs, and crime scene case files from the Uniformed Services Division.

6. Department of Housing and Urban Development, Office of Field Policy and Management (N1-207-10-1, 3 items, 3 temporary items). Records include management and strategic planning files, regional and field office correspondence, and subject files containing responses, inquiries, memos, and booklets.

7. Department of Justice, Federal Bureau of Investigation (N1-65-10-18, 3 items, 3 temporary items). Master files and statistical reports of an electronic information system used to automate workflow processes.

8. Department of Justice, Federal Bureau of Investigation (N1-65-10-37. 2 items, 2 temporary items). Records related to potential confidential human sources in the Directorate of Intelligence. The record copy of confidential human source records were previously scheduled as permanent.

9. Department of Justice, Federal Bureau of Investigation (N1-65-11-16, 3 items, 3 temporary items). Master files and outputs of an electronic information system that tracks complaints and develops referrals related to cyber crime.

10. Department of Justice, Federal Bureau of Prisons (N1-129-10-4, 4 items, 4 temporary items). Master files of an electronic information system used to document inmate involvement in violent activities.

11. Department of Justice, Office of the Inspector General (N1-60-09-65, 3 items, 1 temporary item). Inputs and master files for electronic information systems used to track Inspector General correspondence. Proposed for permanent retention are hard copy controlled correspondence files and a master file of all correspondence.

12. Department of the Treasury, Internal Revenue Service (N1-58-11-2, 3 items, 3 temporary items). Master files and system documentation of an electronic information system used to locate tax payments.

13. Department of the Treasury, Internal Revenue Service (N1-58-11-6, 3 items, 3 temporary items). Master files and system documentation of an electronic information system used to track mail sent to taxpayers.

14. Department of the Treasury, Internal Revenue Service (N1-58-11-9, 3 items, 3 temporary items). Inputs, master files, and system documentation for an electronic information system used to convert paper checks to electronic transactions.

15. Agency for International Development, Office of the Inspector General (N1-286-09-3, 2 items, 2 temporary items). Master files of an electronic information system used to track the status of investigations as well as related paper case files. If the agency becomes aware of any significant or precedent-setting case files they will notify NARA and an independent appraisal of these cases will be conducted.

16. Social Security Administration, Office of Facilities Management (DAA-0047-2012-0001, 1 item, 1 temporary item). Records consist of security surveillance recordings of inside and outside activities at agency headquarters and field offices.

Dated: December 12, 2011.
Paul M. Wester, Jr.,
Chief Records Officer for the U.S. Government.

[FR Doc. 2011-32297 Filed 12-15-11; 8:45 am]

BILLING CODE 7515-01-P